DEPARTMENT OF VETERANS AFFAIRS

Cost-Based and Inter-Agency Billing Rates for Medical Care or Services Provided by the Department of Veterans Affairs

AGENCY: Department of Veterans Affairs.

ACTION: Notice.

SUMMARY: This document updates the Cost-Based and Inter-Agency billing rates for medical care or services provided by the Department of Veterans Affairs (VA) furnished in certain circumstances.

DATES: The rates set forth herein are effective August 28, 2018 and until further notice.

FOR FURTHER INFORMATION CONTACT: Romona Greene, Office of Community Care, Revenue Operations, Payer Relations and Services, Rates and Charges (10D1C1), Veterans Health Administration, Department of Veterans Affairs, 810 Vermont Avenue NW, Washington, DC 20420, (202) 382-2521. (This is not a toll free number.)

SUPPLEMENTARY INFORMATION: VA's methodology for computing Cost-Based and Inter-Agency rates for medical care or services provided by VA is set forth in 38 CFR 17.102(h). Two sets of rates are obtained by applying this methodology, Cost-Based and Inter-Agency.

In accordance with 38 CFR 17.102(a), (b), (d), and (g) respectively, Cost-Based rates apply to medical care and services that are provided by VA:

• In error or based on tentative eligibility,

• In a medical emergency,

• To pensioners of allied nations; and

• For research purposes in circumstances under which the medical care appropriation shall be reimbursed from the research appropriation.

In accordance with 38 CFR 17.102(c) and (f), Inter-Agency rates apply to medical care and services that are provided by VA to beneficiaries of the Department of Defense or other Federal agencies, when the care or services provided is not covered by an applicable sharing agreement, unless otherwise stated.

The calculations for the Cost-Based and Inter-Agency rates are the same with two exceptions. Inter-Agency rates are all-inclusive, are not broken down into three components (Physician; Ancillary; and Nursing, Room, and Board), and do not include standard fringe benefit costs that cover Government employee retirement, disability costs, and return on fixed assets. When VA pays for medical care or services from a non-VA source under circumstances in which the Cost-Based or Inter-Agency rates would apply if the care or services had been provided by VA, the charge for such care or services will be the actual amount paid by VA for the care or services. Inpatient charges will be at the per diem rates shown for the type of bed section or discrete treatment unit providing the care.

The following table depicts the Cost-Based and Inter-Agency rates that are effective upon publication of this notice and will remain in effect until the next Federal Register notice is published. These rates supersede those established by the Federal Register notice published on August, 29 2017, at 82 FR 41093.

| Cost-Based rates | Inter-Agency rates
A. Hospital Care per inpatient day:
General Medicine:
All Inclusive Rate | $4,025 | $3,882
Physician | 482
Ancillary | 1,049
Nursing Room and Board | 2,494
Neurology:
All Inclusive Rate | 3,805 | 3,664
Physician | 557
Ancillary | 1,005
Nursing Room and Board | 2,243
Rehabilitation Medicine:
All Inclusive Rate | 2,749 | 2,641
Physician | 312
Ancillary | 840
Nursing Room and Board | 1,597
Blind Rehabilitation:
All Inclusive Rate | 1,843 | 1,770
Physician | 148
Ancillary | 916
Nursing Room and Board | 779
Spinal Cord Injury:
All Inclusive Rate | 2,431 | 2,338
Physician | 301
Ancillary | 612
Nursing Room and Board | 1,518
Surgery:
All Inclusive Rate | 6,832 | 6,590
Physician | 753
Ancillary | 2,072
Nursing Room and Board | 4,007
General Psychiatry:
All Inclusive Rate | 1,993 | 1,913
Physician | 188
Ancillary | 314
Nursing Room and Board | 1,491
Substance Abuse (Alcohol and Drug Treatment):
All Inclusive Rate | 1,963 | 1,884
Physician | 187
Ancillary | 454
Nursing Room and Board | 1,322
Psychosocial Residential Rehabilitation Program:
All Inclusive Rate | 768 | 740
Physician | 48
Ancillary | 81
Nursing Room and Board | 639
Intermediate Medicine:
All Inclusive Rate | 2,483 | 2,388
Physician | 122
Ancillary | 364
Nursing Room and Board | 1,997
Poly-trauma Inpatient:
All Inclusive Rate | 3,113 | 2,981
Physician | 354
Ancillary | 951
Nursing Room and Board | 1,808
B. Nursing Home Care, Per Day:
All Inclusive Rate | 1,268 | 1,218
Physician | 39
Ancillary | 172
Nursing Room and Board | 1057
C. Outpatient Medical Treatments:
Outpatient Visit (to include Ineligible Emergency Dental Care) | 362 | 350
Outpatient Physical Medicine & Rehabilitation Service Visit | 223 | 213
Outpatient Poly-trauma/Traumatic Brain Injury | 602 | 580
Note: Outpatient Prescriptions will be billed at Drug Cost plus Administrative Fee.

Signing Authority

The Secretary of Veterans Affairs approved this document and authorized the undersigned to sign and submit the document to the Office of the Federal Register for publication electronically as an official document of the Department of Veterans Affairs. Robert L. Wilkie, Secretary, Department of Veterans Affairs, approved this document on August 22, 2018, for publication.

Dated: August 22, 2018.
Jeffrey M. Martin,
Impact Analyst, Office of Regulation Policy & Management, Office of the Secretary, Department of Veterans Affairs.

[FR Doc. 2018-18555 Filed 8-27-18; 8:45 am]

BILLING CODE 8320-01-P